DEPARTMENT OF HOUSING AND URBAN DEVELOPMENT

[Docket No. FR-4903-N-35]

Notice of Submission of Proposed Information Collection to OMB; Housing Choice Voucher Program

AGENCY: Office of the Chief Information Officer.

ACTION: Notice.

SUMMARY: The proposed information collection requirement described below has been submitted to the Office of Management and Budget (OMB) for review, as required by the Paperwork Reduction Act. The Department is soliciting public comments on the subject proposal.

HUD is requesting OMB approval to collect information for the Housing Choice Voucher Program. Public Housing Authorities' (PHA) application for funding to assist very low-income families to lease or purchase housing. PHAs maintain records on participant eligibility, unit acceptability, lease and/or housing assistance payments, and budget and payment documentation.

HUD is requesting the addition of a “Statement of Homeowner Obligation” form.

DATES: Comments Due Date: July 1, 2004.

ADDRESSES: Interested persons are invited to submit comments regarding this proposal. Comments should refer to the proposal by name and/or OMB approval Number (2577-0169) and should be sent to: HUD Desk Officer, Office of Management and Budget, New Executive Office Building, Washington, DC 20503; fax: 202-395-6974.

FOR FURTHER INFORMATION CONTACT: Wayne Eddins, Reports Management Officer, AYO, Department of Housing and Urban Development, 451 Seventh Street, SW., Washington, DC 20410; e-mail Wayne_Eddins@HUD.gov; telephone (202) 708-2374. This is not a toll-free number. Copies of available documents submitted to OMB may be obtained from Mr. Eddins and at HUD's Web site at http://www5.hud.gov:63001/po/i/icbts/collectionsearch.cfm.

SUPPLEMENTARY INFORMATION: This Notice informs the public that the U.S. Department of Housing and Urban Development (HUD) has submitted to OMB, for emergency processing, a survey instrument to obtain information from faith based and community organizations on their likelihood and success at applying for various funding programs. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: Housing Choice Voucher Program.

OMB Approval Number: 2577-0169.

Form Numbers: HUD-2515, 52517, 52580, 52646, 52663, 52665, 52667, 52672, 52673, 52681, 52681-B, 52641, 52641-A, 52642, 52642-A, and (new) HUD-52649.

Description of the Need for the Information and Its Proposed Used: HUD is requesting OMB approval to collect information for the Housing Choice Voucher Program. Public Housing Authorities' (PHA) application for funding to assist very low-income families to lease or purchase housing. PHAs maintain records on participant eligibility, unit acceptability, lease and/or housing assistance payments, and budget and payment documentation.

HUD is requesting the addition of a form to this information collection. The PHA and family participating in the homeownership voucher program must execute a “statement of homeowner obligations” before housing assistance payments begin. This statement describes the types of information to be provided by the family during the process for determining a family's eligibility for participation in the program, and the program requirements a family must comply with as a condition of participation. The statement indicates the homeowner's acknowledgment of obligations to provide various types of information to the PHA for the purpose of determining general eligibility for participation in the program, income eligibility, or compliance with stated program requirements.

Frequency of Submission: On occasion annually.

| Number of respondents | Annual responses | × | Hours per response | = | Burden hours
Reporting Burden | 382,450 | 2,997,700 |  | 0.398 |  | 1,194,575

Total Estimated Burden Hours: 1,194,575.

Status: Request for approval of a revision of an existing information collection.

Authority: Section 3507 of the Paperwork Reduction Act of 1995, 44 U.S.C. 35, as amended.

Dated: May 25, 2004.
Wayne Eddins,
Departmental PRA Compliance Officer, Office of the Chief Information Officer.

[FR Doc. 04-12338 Filed 5-28-04; 8:45 am]

BILLING CODE 4210-72-P